NUCLEAR REGULATORY COMMISSION

10 CFR Part 50

RIN 3150-AI37

[NRC-2009-0014]

Domestic Licensing of Production and Utilization Facilities; Updates to Incorporation by Reference of Regulatory Guides; Correction

AGENCY: Nuclear Regulatory Commission.

ACTION: Final rule; correction.

SUMMARY: This document corrects a final rule that was published in the Federal Register on October 5, 2010 (75 FR 61321). The final rule amends the Nuclear Regulatory Commission's (NRC) regulations to incorporate by reference the latest revisions of two previously incorporated regulatory guides. This document is necessary to include certification in the rule that the NRC has complied with the requirements of the Congressional Review Act. This information was inadvertently omitted from the final rule.

DATES: The correction is effective on November 4, 2010, the date the original final rule becomes effective.

FOR FURTHER INFORMATION CONTACT: Cindy Bladey, Chief, Rules, Announcements, and Directives Branch, Office of Administration, Nuclear Regulatory Commission, Washington, DC 20555-0001, Telephone: (301) 492-3667 or Toll Free: (800) 368-5642.

SUPPLEMENTARY INFORMATION: At the top of the third column of Page 61335 of Federal Register document 2010-24814, published on October 5, 2010 (75 FR 61321), add the following text:

XII. Congressional Review Act

In accordance with the Congressional Review Act of 1996, the NRC has determined that this action is not a major rule and has verified this determination with the Office of Information and Regulatory Affairs of the Office of Management and Budget.

Dated at Rockville, Maryland this 14th day of October 2010.
For the Nuclear Regulatory Commission.
Cindy Bladey,
Chief, Rules, Announcements, and Directives Branch.

[FR Doc. 2010-26393 Filed 10-20-10; 8:45 am]

BILLING CODE 7590-01-P